COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete products previously furnished by such agencies.

Comments Must be Received on or Before: November 17, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the possible impact of the proposed actions.

Additions

If the Committee approves the proposed additions, the entities of the Federal Government identified in this notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services are proposed for addition to Procurement List for production by the nonprofit agencies listed:

Services

Service Type/Location: Cleaning Services, Laguana Atascosa NWR, Rio Hondo, Texas.

NPA: Training, Rehabilitation & Development Institute, Inc., San Antonio, Texas.

Contract Activity: Department of Interior, Albuquerque, New Mexico.

Service Type/Location: Facilities Management, John F. Kennedy Presidential Library, Boston, Massachusetts.

NPA: Work, Incorporated, North Quincy, Massachusetts.

Contract Activity: National Archives & Records Service, College Park, Maryland.

Service Type/Location: Janitorial/Custodial, Army Reserve Center, Fort Harrison, Indianapolis, Indiana.

NPA: Child-Adult Resource Services, Inc., Green Castle, Indiana.

Contract Activity: HQ, 88th Regional Support Command, Fort Snelling, Minnesota.

Service Type/Location: Recycling Service, Cape Cod National Seashore, Wellfleet, Massachusetts.

NPA: Nauset, Inc., Hyannis, Massachusetts.

Contract Activity: National Park Service, Wellfleet, Massachusetts.

Service Type/Location: Switchboard Operation, Shaw Air Force Base, South Carolina.

NPA: Goodwill Industries of Lower SC, Inc., North Charleston, South Carolina.

Contract Activity: 20th Contracting Squadron/LGCA, Shaw AFB, South Carolina.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Pencil, Mechanical

7520-00-285-5822

7520-00-285-5823

7520-00-285-5826

NPA: Industries for the Blind, Inc., Milwaukee, Wisconsin.

Contract Activity: Office Supplies & Paper Products Acquisition Center, New York, New York.

Product/NSN: Strap Assembly, Litter

1680-00-878-6964

NPA: Huntsville Rehabilitation Foundation, Huntsville, Alabama.

Contract Activity: Defense Supply Center Richmond, Richmond, Virginia.

Sheryl D. Kennerly,
Director, Information Management.

[FR Doc. 02-26596 Filed 10-17-02; 8:45 am]

BILLING CODE 6353-01-P